DEPARTMENT OF THE INTERIOR

National Park Service

[NPS-WASO-NAGPRA-16662; PPWOCRADN0-PCU00RP14.R50000]

Notice of Intent To Repatriate Cultural Items: School for Advanced Research, Indian Arts Research Center, Santa Fe, NM

AGENCY: National Park Service, Interior.

ACTION: Notice.

SUMMARY: The School for Advanced Research, Indian Arts Research Center, in consultation with the appropriate Indian tribes or Native Hawaiian organizations, has determined that the cultural items listed in this notice meet the definition of sacred objects. Lineal descendants or representatives of any Indian tribe or Native Hawaiian organization not identified in this notice that wish to claim these cultural items should submit a written request to the School for Advanced Research, Indian Arts Research Center. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the School for Advanced Research, Indian Arts Research Center at the address in this notice by November 17, 2014.

ADDRESSES: Laura Elliff, Acting Director/Collections Manager, School for Advanced Research, Indian Arts Research Center, P.O. Box 2188, Santa Fe, NM 87504-2188, telephone (505) 954-7205, email elliff@sarsf.org.

SUPPLEMENTARY INFORMATION: Notice is here given in accordance with the Native American Graves Protection and Repatriation Act (NAGPRA), 25 U.S.C. 3005, of the intent to repatriate cultural items under the control of the School for Advanced Research, Indian Arts Research Center, Santa Fe, NM, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At unknown dates between 1951 and 1952, Julia K. Shishkin purchased eight cultural items from a member of the Pueblo of Nambe in Santa Fe County, NM. On April 30, 1964, Mrs. Shishkin offered to sell the eight items to the School of American Research for two-hundred dollars. On May 14, 1964, the Executive Committee of the School of American Research (School for Advanced Research was formerly School of American Research until 2007) examined the eight items from the Pueblo of Nambe and subsequently purchased them on May 15, 1964. The eight cultural items are 1 large stone figure (SAR.1964-3A); 1 set of black feathers tied together with string (SAR.1964-3BC), which are to be attached to the SAR.1964-3A stone figure; 5 stone figures with leather carrying pouches (SAR.1964-4AB, SAR.1964-5AB, SAR.1964-6AB, SAR.1964-7AB, SAR.1964-8AB); and 1 small stone with rough surface on one side, and polished opaque surface on the other (SAR.1964-9).

On November 15, 1993, the School of American Research, Indian Arts Research Center sent a summary of objects to the Pueblo of Nambe in accordance to the reporting requirements of NAGPRA. On January 20, 2012, a representative from the Pueblo of Nambe contacted the School for Advanced Research, Indian Arts Research Center via phone requesting another report of objects in the School's collection. On January 23, 2012, a report of Nambe objects with photos was sent via email to the Pueblo of Nambe representative. Correspondence and consultation followed thereafter regarding the eight cultural items listed in this notice. The review of the School for Advanced Research's documentation, in addition to physical inspections by Pueblo of Nambe representatives, has resulted in confirmation from the Pueblo of Nambe traditional leaders that the eight items are of Pueblo of Nambe origin, supporting cultural affiliation as well as determining that the eight items are sacred objects. The School for Advanced Research, Indian Arts Research Center records, including catalog cards and other provenance information indicate these items to be of Pueblo of Nambe origin, further supporting the claim by the Pueblo of Nambe. On December 3, 2013, the Pueblo of Nambe submitted a repatriation request from the Lieutenant Governor for the eight sacred objects.

Determinations Made by the School for Advanced Research, Indian Arts Research Center

Officials of the Indian Arts Research Center at the School for Advanced Research have determined that:

• Pursuant to 25 U.S.C. 3001(3)(C), the eight cultural items described above are specific ceremonial objects needed by traditional Native American religious leaders for the practice of traditional Native American religions by their present-day adherents.

• Pursuant to 25 U.S.C. 3001(2), there is a relationship of shared group identity that can be reasonably traced between the sacred objects and Pueblo of Nambe, New Mexico.

Additional Requestors and Disposition

Lineal descendants or representatives of any Indian tribe or Native Hawaiian organization not identified in this notice that wish to claim these cultural items should submit a written request with information in support of the claim to Laura Elliff, Acting Director/Collections Manager, School for Advanced Research, Indian Arts Research Center, P.O. Box 2188, Santa Fe, NM 87504, telephone (505) 954-7205, email elliff@sarsf.org, by November 17, 2014. After that date, if no additional claimants have come forward, transfer of control of the sacred objects to the Pueblo of Nambe may proceed.

The School for Advanced Research, Indian Arts Research Center is responsible for notifying the Pueblo of Nambe, New Mexico that this notice has been published.

Dated: September 10, 2014.
Sherry Hutt,
Manager, National NAGPRA Program.

[FR Doc. 2014-24520 Filed 10-15-14; 8:45 am]

BILLING CODE 4312-50-P